FEDERAL COMMUNICATIONS COMMISSION

Public Information Collection Requirement Submitted to OMB for Review and Approval, Comments Requested

October 3, 2008.

SUMMARY: The Federal Communications Commission, as part of its continuing effort to reduce paperwork burdens, invites the general public and other Federal agencies to take this opportunity to comment on the following information collections, as required by the Paperwork Reduction Act of 1995 (PRA), Public Law 104-13. An agency may not conduct or sponsor a collection of information unless it displays a currently valid control number. No person shall be subject to any penalty for failing to comply with a collection of information subject to the PRA that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before November 10, 2008. If you anticipate that you will be submitting comments, but find it difficult to do so within the period of time allowed by this notice, you should advise the contacts listed below as soon as possible.

ADDRESSES: Direct all PRA comments to Nicholas A. Fraser, Office of Management and Budget, via Internet at Nicholas_A._Fraser@omb.eop.gov or via fax at (202) 395-5167; and to Cathy Williams, Federal Communications Commission, Room 1-C823, 445 12th Street, SW., Washington, DC, 20554, or via Internet at Cathy.Williams@fcc.gov and/or PRA@fcc.gov. Include in the comments the OMB control number of the collection as shown in the SUPPLEMENTARY INFORMATION section below.

FOR FURTHER INFORMATION CONTACT: For additional information or copies of the information collection(s), contact Cathy Williams at (202) 418-2918, or via Internet at Cathy.Williams@fcc.gov, and/or PRA@fcc.gov. To view a copy of this information collection request (ICR) submitted to OMB: (1) Go to the Web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

SUPPLEMENTARY INFORMATION: OMB Control Number: 3060-0501.

Title: Section 73.1942, Candidates Rates; Section 76.206, Candidate Rates; Section 76.1611, Political Cable Rates and Classes of Time.

Form Number: Not applicable.

Type of Review: Extension of a currently approved collection.

Respondents: Business or other for-profit entities.

Number of Respondents and Responses: 19,717 respondents; 422,170 responses.

Estimated Time per Response: 0.5 hours to 20 hours.

Frequency of Response: Recordkeeping requirement; On occasion reporting requirement; Semi-annual requirement; Third party disclosure requirement.

Obligation to Respond: Required to obtain or retain benefits. The statutory authority for this collection of information is contained in Sections 154(i) and 315 of the Communications Act of 1934, as amended.

Total Annual Burden: 984,293 hours.

Total Annual Cost: None.

Privacy Act Impact Assessment: No impact(s).

Nature and Extent of Confidentiality: There is no need for confidentiality.

Needs and Uses: Section 315 of the Communications Act directs broadcast stations and cable operators to charge political candidates the “lowest unit charge of the station” for the same class and amount of time for the same period, during the 45 days preceding a primary or runoff election and the 60 days preceding a general or special election. 47 CFR 73.1942 requires broadcast licensees and 47 CFR 76.206 requires cable television systems to disclose any station practices offered to commercial advertisers that enhance the value of advertising spots and different classes of time (immediately preemptible, preemptible with notice, fixed, fire sale, and make good). These rule sections also require licensees and cable TV systems to calculate the lowest unit charge. Broadcast stations and cable systems are also required to review their advertising records throughout the election period to determine whether compliance with these rule sections require that candidates receive rebates or credits. 47 CFR 76.1611 requires systems to disclose to candidates information about rates, terms, conditions and all value-enhancing discount privileges offered to commercial advertisers.

OMB Control Number: 3060-1089.

Title: Telecommunications Relay Services and Speech-to-Speech Services for Individuals with Hearing and Speech Disabilities; E911 Requirements for IP-Enabled Service Providers, CG Docket No. 03-123 and WC Docket No. 05-196, FCC 08-151.

Form Number: N/A.

Type of Review: Revision of a currently approved collection.

Respondents: Business or other for-profit entities; Individuals or households; Not-for-profit institutions; State, local or tribal government.

Number of Respondents and Responses: 11 respondents; 1,680,044 responses.

Estimated Time per Response: 3 minutes (.05 hours) to 1 hour.

Frequency of Response: One-time, quarterly and on occasion reporting requirements; Recordkeeping requirement; Third party disclosure requirement.

Total Annual Burden: 98,616 hours.

Total Annual Cost: $4,224,346.

Obligation to Respond: Required to obtain or retain benefits. The statutory authority is contained in sections 1, 2, 4(i), (4)(j), 225, 251, and 303(r) of the Communications Act of 1934, as amended, 47 U.S.C. 151, 152, 154(i), 154(j), 225, 251, 303(r).

Nature and Extent of Confidentiality: An assurance of confidentiality is not offered because the Commission has no direct involvement in the collection of personally identifiable information (PII) from individuals and/or households.

Privacy Impact Assessment: No impact(s).

Needs and Uses: On November 30, 2005, the Commission released Telecommunications Relay Services and Speech-to-Speech Services for Individuals with Hearing and Speech Disabilities; Access to Emergency Services, Notice of Proposed Rulemaking (VRS/IP Relay 911 NPRM), CG Docket No. 03-123, FCC 05-196, published at 71 FR 5221 (February 1, 2006), which addressed the issue of access to emergency services for Internet-based forms of Telecommunications Relay Services (TRS), namely Video Relay Service (VRS) and Internet Protocol (IP) Relay. The Commission sought to adopt means to ensure that such calls promptly reach the appropriate emergency service provider.

On May 8, 2006, the Commission released Telecommunications Relay Services and Speech-to-Speech Services for Individuals with Hearing and Speech Disabilities; Misuse of IP Relay Service and Video Relay Service, Further Notice of Proposed Rulemaking (IP Relay/VRS Misuse FNPRM), CG Docket No. 03-123, FCC 06-58, published at 71 FR 31131 (June 1, 2006), which sought further comment on whether IP Relay and VRS providers should be required to implement user registration systems and what information users should provide, as a means of curbing illegitimate IP Relay and VRS calls.

On May 9, 2006, the Commission released Telecommunications Relay Services and Speech-to-Speech Services for Individuals with Hearing and Speech Disabilities, Declaratory Ruling and Further Notice of Proposed Rulemaking (Interoperability Declaratory Ruling and FNPRM), CG Docket No. 03-123, FCC 06-57, published at 71 FR 30818 and 71 FR 30848 (May 31, 2006). In the Interoperability Declaratory Ruling and FNPRM, the Commission sought comment on the feasibility of establishing a single, open, and global database of proxy numbers for VRS users that would be available to all service providers, so that a hearing person can call a VRS user through any VRS provider, and without having first to ascertain the VRS user's current IP address.

On June 24, 2008, the Commission released Telecommunications Relay Services and Speech-to-Speech Services for Individuals with Hearing and Speech Disabilities; E911 Requirements for IP-Enabled Service Providers, Report and Order and Further Notice of Proposed Rulemaking (Report and Order), CG Docket No. 03-123 and WC Docket No. 05-196, FCC 08-151, addressing the issues raised in these notices. The Report and Order provides VRS and IP Relay users with a reliable and consistent means by which others (including emergency personnel) can identify or reach them by, among other things, integrating VRS and IP Relay users into the ten-digit, NANP numbering system.

First, to complete a telephone call to an Internet-based TRS user, a provider must have some method of logically associating the telephone number dialed by the caller to the Internet-based TRS user's device. That method, known as the TRS Numbering Directory, is a central database that maps each user's telephone number to routing information needed to find that user's device on the Internet. The Report and Order requires VRS and IP Relay providers to collect and maintain the routing information from their registered users and to provision that information to the TRS Numbering Directory so that this mapping can occur.

Second, because there is no reliable means for VRS and IP Relay providers, unlike wireline carriers, to automatically know the physical location of their users, the Report and Order requires VRS and IP Relay providers to collect and maintain the Registered Location of their registered users. And to ensure that authorities can retrieve a user's Registered Location (along with the provider's name and CA's identification number for callback purposes), the Report and Order requires VRS and IP Relay providers to provision that information into, or make that information available through, ALI databases across the country.

Third, to ensure that VRS and IP Relay users are aware of their providers' numbering and E911 service obligations and to inform those users of their providers' E911 capabilities, the Report and Order requires each VRS and IP Relay provider to post an advisory on its Web site, and in any promotional materials directed to consumers, addressing numbering and E911 services for VRS or IP Relay. Providers also must obtain and keep a record of affirmative acknowledgement from each of their registered users of having received and understood the user notification.

The new or modified information collection requirements are contained in 47 CFR 64.605(a) and (b), and 47 CFR 64.611(a), (b), (c) and (f), and subject to the PRA must be approved by the Office of Management and Budget before becoming effective.

Federal Communications Commission.
Marlene H. Dortch,
Secretary.

[FR Doc. E8-24002 Filed 10-8-08; 8:45 am]

BILLING CODE 6712-01-P